DEPARTMENT OF COMMERCE

International Trade Administration

Proposed Information Collection; Comment Request; Commercial Service Annual Customer Satisfaction Survey

AGENCY: International Trade Administration.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 9, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Susan Crawford, 202-482-2050, susan.crawford@trade.gov, 202-482-2599.

SUPPLEMENTARY INFORMATION:

I. Abstract

The U.S. Commercial Service (CS) is mandated by Congress to help U.S. businesses, particularly small and medium-sized companies, export their products and services to global markets. Additionally, the CS plays a leading role in achieving the President's National Export Initiative and doubling exports within five years. To achieve its mission, the CS provides U.S. businesses with a range of export assistance services and resources including export counseling from one of our domestic Export Assistance Centers, educational webinars and seminars, an export-focused Web site (http://www.export.gov), a trade-related help line (1-800-USA-TRAD(E)), international industry research, international business partner match-making services and basic due diligence services on potential international partners.

The CS relies on client feedback to guide the development of services to meet client's needs and to improve the effectiveness of its export assistance services. The CS uses an Annual Customer Satisfaction Survey to measure client's overall satisfaction with the full array of services and experiences they have had with the CS on an annual basis. The survey specifically addresses: Client service principles, export assistance services and business practices.

The Annual Customer Satisfaction Survey results enable the CS to prioritize the allocation of time, budget and resources to improve the export assistance services provided to U.S. companies. Without this information, the CS is unable to systematically determine the actual and relative levels of performance for attributes, identify the drivers or determinants of overall satisfaction, and provide clear, actionable insights for managerial intervention.

II. Method of Collection

The survey is deployed to a randomly selected sample of CS clients via an e-mail message containing a link to a web-enabled questionnaire. Two reminder messages are sent as needed to encourage customers to complete the questionnaire.

III. Data

OMB Control Number: 0625-0262.

Form Number(s): Not applicable.

Type of Review: Regular submission.

Affected Public: Business or for-profit organizations. Estimated Number of Respondents: 2,500.

Estimated Time per Response: 15 minutes.

Estimated Total Annual Burden Hours: 625.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 7, 2010.
Gwellnar Banks,
Management Analyst, Office of the Chief Information Officer.

[FR Doc. 2010-22615 Filed 9-9-10; 8:45 am]

BILLING CODE 3510-FP-P